DEPARTMENT OF THE INTERIOR

National Park Service

30-Day Notice of Submission to the Office of Management and Budget (OMB); Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a proposed new collection of information (OMB #1024-XXXX).

DATES: Public comments on this Information Collection Request (ICR) will be accepted on or before July 9, 2010.

ADDRESSES: You may submit comments directly to the Desk Officer for the Department of the Interior (OMB #1024-XXXX), Office of Information and Regulatory Affairs, OMB, by fax at 202/395-5806, or by electronic mail at oira_docket@omb.eop.gov. Please also send a copy of your comments to Eppley Institute for Parks and Public Land, Indiana University Research Park, RE ASIS, 501 Morton Street, Suite 101, Bloomington, Indiana 47404; or via fax to 812/855-5600; or via e-mail to eppley@indiana.edu.

FOR FURTHER INFORMATION CONTACT: Dr. James Gramann, NPS Social Science Division, 1201 “Eye” St., Washington, DC 20005; or via phone 202-513-7189; or via e-mail James_Gramann@partner.nps.gov. You are entitled to a copy of the entire ICR package free-of-charge. You may access this ICR at http://www.reginfo.gov/public/.

Comments Received on the 60-Day Federal Register Notice:The NPS published a 60-day notice to solicit public comments on an information collection request entitled “Assessing Visitor Attitudes, Experiences, and Expectations Associated with the Management and Use of Oversand Vehicles at Assateague Island National Seashore” in the Federal Register on February 8, 2008 (Vol. 73, No. 34, Page 9354-9355). Publication of the Federal Register notice was supplemented by multiple notifications to stakeholders about the proposed study. The NPS received 43 comments as a result the 60-day notice and the stakeholder notifications. The comments and responses are summarized below:

(1) A number of comments either supported or opposed the use of oversand vehicles (OSVs) at Assateague Island National Seashore. These comments related to possible management actions NPS might take, but did not relate to the need for the information collection or the burden of the collection.

(2) Three commenters requested a copy of the draft survey. Copies were sent to each of the parties requesting them.

(3) The Defenders of Wildlife and the Center for Biological Diversity sent a joint set of comments. Some of these comments concerned the current management of the OSV zone, while others included specific thoughts on the proposed survey. As a result, the Defenders of Wildlife and the Center for Biological Diversity, along with the Assateague Mobil Sport Fishermen's Association, were invited to comment on the content and wording of the draft questionnaires. The Defenders of Wildlife and the Center for Biological Diversity declined to provide additional comments. The Assateague Mobil Sport Fishermen Association did provide additional feedback, including recommendations for wording changes in some questions, along with guidance to make sure the information collected was relevant to issues surrounding the OSV zone. There were also concerns that a particular area of the OSV Zone was being targeted in a number of the questions. The surveys were modified as a result of these comments.

SUPPLEMENTARY INFORMATION: Title: Assessing Visitor Attitudes Experiences and Expectations Associated with the Management and Use of Oversand Vehicles at Assateague Island National Seashore.

Bureau Form Number(s): None.

OMB Number: To be requested.

Expiration Date: To be requested.

Type of Request: New collection.

Description of Need:The proposed study will supply input into identifying and evaluating alternatives for future management of Oversand Vehicle (OSV) use at Assateague Island National Seashore (ASIS), Maryland. The purpose of this research is to provide park managers with information about the characteristics of visitors to the OSV zone and adjacent backcountry areas in the park, attributes of the OSV zone that are important to the quality of visitor experiences, and visitor attitudes regarding OSV management, use, and resource protection practices.

The use of OSVs for access and recreation is a traditional activity that occurred at Assateague prior to the establishment of the National Seashore in 1965. Management of OSVs was formalized with the adoption of special regulations (36 CFR 7.65) in 1974, which established vehicle and equipment requirements, an OSV permit system, general requirements for legal operation, and a maximum limit of 145 vehicles using the Maryland District OSV zone at any time. OSV use was reevaluated in 1982 during the Seashore's general management planning process. The General Management Plan (GMP) designated a “Traditional Recreation Subzone” in the Maryland District approximately 12 miles long to be managed for multiple uses, including oversand travel by properly equipped and permitted OSVs. The Traditional Recreation Subzone also includes a small area for overnight accommodation of self-contained OSVs and two hike-in backcountry campgrounds. In 2008, the NPS began a revision of the GMP for ASIS. The revised GMP will: (1) Clearly define the desired natural and cultural resource conditions to be achieved and maintained over time; (2) clearly define the necessary conditions for visitors to understand, enjoy, and appreciate the park's significant resources; (3) identify the kinds and levels of management activities, visitor use, and development that are appropriate for maintaining the desired conditions; and (4) identify indicators and standards for maintaining the desired conditions.

The proposed study will assist in the GMP revision by informing decisions related to the management of OSV use at ASIS. The study has two primary objectives: (1) Develop baseline data on users of the Traditional Recreation Subzone, including types, frequency and patterns of use, and their socio-economic and demographic characteristics; and (2) provide input into potential indicators and standards of quality for maintaining the desired visitor experience in the Traditional Recreation Subzone. The study includes two questionnaires. The first will be administered to a representative sample of OSV users in the Traditional Recreation Subzone; the second will be given to a representative sample of non-OSV users in the Subzone.

1. Survey OSV Permit Holders Utilizing the Traditional Recreation Subzone

A randomly selected group of current OSV permit holders will receive a mailback questionnaire, with an option to complete the survey on-line using a unique identification code. The survey includes questions about OSV users' demographics; the frequency, patterns, and type of OSV use; factors influencing the quality of visitor experiences; and attitudes toward current and potential OSV management and resource protection practices. This research is proposed for the summer and fall of 2010.

2. Survey Backcountry Users of the Traditional Recreation Subzone

A randomly selected group of visitors issued backcountry camping permits in 2009 will receive a mailback questionnaire, with an option to complete the survey on-line using a unique identification code. The survey will include questions similar to those in the OSV questionnaire, but specific to backcountry camping experiences. This survey also is proposed for summer and fall of 2010.

Automated data collection: This information will be collected via mailback surveys distributed through U.S. Postal Service mail. Participants also will be given the opportunity to respond to the survey on-line by using a unique identification code and password.

Description of respondents: Current OSV permit holders and current backcountry permit holders at Assateague Island National Seashore.

Estimated number of respondents: 500 OSV permit holders (350 respondents and 150 non-respondents); 330 backcountry permit holders (230 respondents and 130 non-respondents); 40 non-respondents contacted for a short non-respondent survey.

Estimated average burden hours per response: 3 minutes for initial contact; 15 minutes for OSV survey; 10 minutes for backcountry survey; 5 minutes for non-respondent survey.

Frequency of Response: 1 time per respondent.

Estimated annual reporting burden: 171 hours.

Comments are invited on: (1) The practical utility of the information being gathered; (2) the accuracy of the burden hour estimate; and (3) ways to enhance the quality, utility, and clarity of the information being gathered. Before including your address, phone number, e-mail address, or other personal identifying information in your comment, you should be aware that your entire comment—including your personal identifying information—may be made publicly available at any time. While you can ask OMB in your comment to withhold your personal identifying information from public review, we cannot guarantee that we will be able to do so.

Dated: June 3, 2010.
Stephanie Leonard,
NPS, Acting Information Collection Clearance Officer.

[FR Doc. 2010-13794 Filed 6-8-10; 8:45 am]

BILLING CODE P